DEPARTMENT OF ENERGY

Agency Information Collection Renewal

AGENCY: Department of Energy.

ACTION: Notice; comment request.

SUMMARY: The Department of Energy (DOE) intends to renew an information collection package with the Office of Management and Budget (OMB) under the Paperwork Reduction Act of 1995. The Department's Office of Environment, Safety and Health information collection package, OMB No. 1910-5105, allows the Department and its contractors to provide management control and oversight over health and safety programs concerning worker exposure to ionizing radiation.

DATES: Written comments and recommendations for the proposed collections of information must be mailed by September 2, 2004.

ADDRESSES: Comments and recommendations regarding this collection should be mailed to the OMB Desk Officer, Office of Information and Regulatory Affairs, Office of Management and Budget, New Executive Office Building, Washington, DC 20503. If you anticipate that you will be submitting comments, but find it difficult to do so within the period of time allowed by this notice, please advise the OMB Desk Officer of your intention to make a submission as soon as possible. The Desk Officer may be telephoned at (202) 395-6893. In addition, please notify the DOE contact listed in this notice.

FOR FURTHER INFORMATION CONTACT: Persons submitting comments to OMB are requested to send a copy to Dr. Judith D. Foulke, U.S. Department of Energy, Office of Worker Protection Policy and Programs (EH-52), Office of Environment, Safety and Health, Building 270/CC, 1000 Independence Ave., SW., Washington, DC 20585-1290.

Dr. Foulke can be contacted by telephone at (301) 903-5865 or e-mail at Judy.Foulke@eh.doe.gov.

Requests for copies of the Department's Paperwork Reduction Act Submission and other information should be directed to Ms. Susan L. Frey, Director, U.S. Department of Energy, Records Management Division, Office of the Chief Information Officer, Germantown Building, IM-11, 1000 Independence Ave., SW., Washington, DC 20585-1290.

Ms. Frey can be contacted by telephone at (301) 903-3666 or e-mail at Susan.Frey@hq.doe.gov.

SUPPLEMENTARY INFORMATION: This package contains (1) Current OMB No. 1910-5105; (2) Package Title: Occupational Radiation Protection; (3) Summary: Request for a three-year extension without change, which covers mandatory responses; (4) Purpose: The recordkeeping and reporting requirements that comprise this information collection will permit DOE and its contractors to provide management control and oversight over health and safety programs concerning worker exposure to ionizing radiation; (5) Respondents: 35 DOE management and operating contractors and 15 other contractors; (6) Estimated Number of Burden Hours: 50,000 following each revision of 10 CFR 835 and 5000 for other years.

Statutory Authority: Atomic Energy Act of 1954, 42 U.S.C. 2201, and the Department of Energy Organization Act, 42 U.S. C. 7191 and 7254.

Issued in Washington, DC, on June 15, 2004.
Susan L. Frey,
Director, Records Management Division, Office of the Chief Information Officer.

[FR Doc. 04-17626 Filed 8-2-04; 8:45 am]

BILLING CODE 6450-01-P